DEPARTMENT OF DEFENSE

GENERAL SERVICES ADMINISTRATION

NATIONAL AERONAUTICS AND SPACE ADMINISTRATION

[OMB Control No. 9000-0069]

Federal Acquisition Regulation; Submission for OMB Review; Indirect Cost Rates

AGENCIES: Department of Defense (DOD), General Services Administration (GSA), and National Aeronautics and Space Administration (NASA).

ACTION: Notice of request for public comments regarding an extension to an existing OMB clearance (9000-0069).

SUMMARY: Under the provisions of the Paperwork Reduction Act of 1995 (44 U.S.C. Chapter 35), the Federal Acquisition Regulation (FAR) Secretariat has submitted to the Office of Management and Budget (OMB) a request to review and approve an extension of a currently approved information collection requirement concerning indirect cost rates. A request for public comments was published at 67 FR 19558 in the Federal Register on April 22, 2002 and a correction to dates published at 67 FR 39473 on June 7, 2002. Comments were received. Differences in numbers from previous submissions are the result of revised estimates after considering comments received.

DATES: Submit comments on or before November 29, 2002.

ADDRESSES: Submit comments regarding this burden estimate or any other aspect of this collection of information, including suggestions for reducing this burden to: FAR Desk Officer, OMB, Room 10102, NEOB, Washington, DC 20503, and a copy to the General Services Administration, Regulatory Secretariat (MVA), 1800 F Street, NW, Room 4035, Washington, DC 20405. Please cite OMB Control No. 9000-0069, Indirect Cost Rates, in all correspondence.

FOR FURTHER INFORMATION CONTACT: Linda Klein, Acquisition Policy Division, GSA (202) 501-3775.

SUPPLEMENTARY INFORMATION:

A. Purpose

The contractor's proposal of final indirect cost rates is necessary for the establishment of rates used to reimburse the contractor for the costs of performing under the contract. The supporting cost data are the cost accounting information normally prepared by organizations under sound management and accounting practices.The proposal and supporting data is used by the contracting official and auditor to verify and analyze the indirect costs and to determine the final indirect cost rates or to prepare the Government negotiating position if negotiation of the rates is required under the contract terms.

B. Annual Reporting Burden

Respondents: 3,000.

Responses Per Respondent: 1.

Annual Responses: 3,000.

Hours Per Response: 2,188.

Total Burden Hours: 6,564,000.

Burden hours are based on an estimated 3000 business segments that have overhead rates established annually. The hours per response are based on the sum of estimated hours per response for reporting and estimated hours per response for recordkeeping. The estimated total burden hours increased substantially from 2,469 hours to 6,564,000 hours for all respondents because we changed the method of estimating, not because the burden has increased. Prior estimates were based on the time to generate a proposal document. The new estimate is based on the time necessary to keep records, analyze information and generate a proposal document.

Obtaining copies of proposals:

Requesters may obtain a copy of the information collection documents from the General Services Administration, Regulatory Secretariat (MVA), Room 4035, 1800 F Street, NW, Washington, DC 20405, telephone (202) 501-4755. Please cite OMB Control No. 9000-0069, Indirect Cost Rates, in all correspondence.

Dated: October 24, 2002.
Al Matera,
Director, Acquisition Policy Division.

[FR Doc. 02-27579 Filed 10-29-02; 8:45 am]

BILLING CODE 6820-EP-P